DEPARTMENT OF ENERGY

Federal Energy Regulatory Commission

Notice of FERC Staff Attendance at Meetings of Southwest Power Pool Board of Directors/Members Committee and Southwest Power Pool Regional State Committee

June 6, 2006.

The Federal Energy Regulatory Commission hereby gives notice that members of its staff may attend the meetings of the Southwest Power Pool (SPP) Board of Directors/Members Committee and Regional State Committee noted below. Their attendance is part of the Commission's ongoing outreach efforts.

SPP Board of Directors/Members Committee—June 12-13, 2006 (June 12: 5:30 p.m.-8 p.m. CDT; June 13: 8 a.m.-5 p.m. CDT). SPP Offices, Plaza West Bldg., 415 N. McKinley, Suite 140, Little Rock, AR 72205. 501-614-3200.

July 25, 2006 (8:30 a.m.-3 p.m. CDT). Embassy Suites Hotel/Kansas City Plaza, 220 West 43rd Street, Kansas City, MO 64111. 816-756-1720.

SPP Regional State Committee—July 24, 2006 (1 p.m.-5 p.m. CDT). Embassy Suites Hotel/Kansas City Plaza, 220 West 43rd Street, Kansas City, MO 64111. 816-756-1720.

The discussions may address matters at issue in the following proceedings:

Docket Nos. RT04-1 and ER04-48, Southwest Power Pool, Inc.

Docket No. ER05-109, Southwest Power Pool, Inc.

Docket No. ER05-652, Southwest Power Pool, Inc.

Docket No. ER05-799, Southwest Power Pool, Inc.

Docket No. ER05-1065, Entergy Services, Inc.

Docket No. ER05-1285, Southwest Power Pool, Inc.

Docket No. ER05-1352, Southwest Power Pool, Inc.

Docket No. ER05-1416, Southwest Power Pool, Inc.

Docket No. ER06-15, Southwest Power Pool, Inc.

Docket No. ER06-432, Southwest Power Pool, Inc.

Docket No. ER06-448, Southwest Power Pool, Inc.

Docket No. ER06-451, Southwest Power Pool, Inc.

Docket No. ER06-641, Southwest Power Pool, Inc.

Docket No. ER06-727, Southwest Power Pool, Inc.

Docket No. ER06-729, Southwest Power Pool, Inc.

Docket No. ER06-767, Southwest Power Pool, Inc.

The meeting is open to the public. For more information, contact Tony Ingram, Office of Energy Markets and Reliability, Federal Energy Regulatory Commission at (501) 614-4789 or tony.ingram@ferc.gov.

Magalie R. Salas,
Secretary.

[FR Doc. E6-9097 Filed 6-9-06; 8:45 am]

BILLING CODE 6717-01-P